FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Ann E. Misback, Secretary of the Board, 20th Street and Constitution Avenue NW, Washington, DC 20551-0001, not later than February 14, 2025.

A. Federal Reserve Bank of New York (Bank Applications Officer) 33 Liberty Street, New York, New York 10045-0001. Comments can also be sent electronically to Comments.applications@ny.frb.org

1. Lawrence B. Seidman, Wayne, New Jersey; Seidman and Associates, LLC, Seidman Investment Partnership, LP, and Seidman Investment Partnership II, LP, all of Parsippany, New Jersey; Broad Park Investors, LLC, and Chewy Gooey Cookies, LP, both of Livingston, New Jersey; LSBK06-08, LLC, Palm Beach, Florida; and four trusts for the benefit of minor children, Erica J. Fishman, individually, and as a trustee, and Craig Fishman, as trustee, all of Franklin Lakes, New Jersey; Allison B. Hammer, Towaco, New Jersey, individually and as a trustee of the aforementioned trusts; as a group acting in concert, to acquire additional voting shares of Bankwell Financial Group, Inc., and thereby indirectly acquire voting shares of Bankwell Bank, both of New Canaan, Connecticut.

B. Federal Reserve Bank of Dallas (Karen Smith, Assistant Vice President, Mergers & Acquisitions and Enforcement) 2200 North Pearl Street, Dallas, Texas 75201-2272. Comments can also be sent electronically to Comments.applications@dal.frb.org:

1. The Charles J. Whelan, Jr. 2024 Trust, Cynthia Ann Whelan, individually, and as trustee, both of Kerrville, Texas; to acquire voting shares of Relationship Financial Corporation (Company), and thereby indirectly acquire voting shares of Guadalupe Bank (Bank), both of Kerrville, Texas.

In addition, Charles Joseph Whelan, Jr., Cynthia Ann Whelan, Kevin Joseph Whelan, and Adria Nicole Whelan, all of Kerrville, Texas; and Leslie Whelan White and Aaron James White, both of Austin, Texas; as a group acting in concert, to retain voting shares of the Company, and thereby indirectly retain voting shares of the Bank.

Board of Governors of the Federal Reserve System.
Michele Taylor Fennell,
Associate Secretary of the Board.

[FR Doc. 2025-01971 Filed 1-29-25; 8:45 am]

BILLING CODE P